DEPARTMENT OF EDUCATION

National Assessment Governing Board; Meeting

AGENCY: National Assessment Governing Board; Education.

ACTION: Notice of teleconference meetings.

SUMMARY: This notice sets forth the schedule and proposed agenda of a forthcoming meeting by teleconference of the Executive Committee of the National Assessment Governing Board. This notice also describes the functions of the Board. Notice of this meeting is required under Section 10(a)(2) of the Federal Advisory Committee Act.

DATES: December 5, 2000.

TIME: 4:00-5:00 p.m.

LOCATION: National Assessment Governing Board, Suite 825, 800 North Capital Street, N.W., Washington, DC.

FOR FURTHER INFORMATION CONTACT: Ray Fields, Assistant Director for Policy, National Assessment Governing Board, Suite 825, 800 North Capital Street, N.W., Washington, D.C., 20002-4233, Telephone: (202) 357-6938.

SUPPLEMENTARY INFORMATION: The National Assessment Governing Board is established under section 412 of the National Education Statistics Act of 1994 (Title IV of the Improving America's Schools Act of 1994), (Pub. L. 103-382).

The Board is established to formulate policy guidelines for the National Assessment of Educational Progress. The Board is responsible for selecting subject areas to be assessed, developing assessment objectives, identifying appropriate achievement goals for each grade and subject tested, and establishing standards and procedures for interstate and national comparisons. Under Public Law 105-78, the National Assessment Governing Board is also granted exclusive authority over developing Voluntary National Tests pursuant to contract number RJ97153001.

On December 5, 2000, between 4:00 and 5:00 p.m, the Executive Committee of the National Assessment Governing Board will hold an open teleconference meeting. The purpose of this meeting is to review and take action on a proposal concerning assessment in urban school districts that was received from the Council of Great City Schools.

Because this is a teleconference meeting telephonic devices and seating space will be arranged to permit the public to have access to the Committee's deliberations.

Records are kept of all Board proceedings and are available for public inspection at the U.S. Department of Education, National Assessment Governing Board, Suite #825, 800 North Capitol Street, N.W., Washington, DC, from 8:30 a.m. to 5:00 p.m.

Dated: November 30, 2000.
Roy Truby,
Executive Director, National Assessment Governing Board.

[FR Doc. 00-30862 Filed 12-1-00; 8:45 am]

BILLING CODE 4000-01-M